DEPARTMENT OF VETERANS AFFAIRS

[OMB Control No. 2900-0554]

Agency Information Collection Activity Under OMB Review: (VA Homeless Providers Grant and Per Diem Program)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before January 11, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0554” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0554.”

SUPPLEMENTARY INFORMATION:

Title: VA Homeless Providers Grant and Per Diem Program.

OMB Control Number: 2900-0554.

Type of Review: Reinstatement with change of a currently expired collection.

Summary of Collection of Information: The proposed rule at § 61.80, contains compliance reporting provisions for capital grants, per diem, and special needs grants.

Description of the Need for Information and Proposed Use of Information: Determine eligibility for capital grants & per diem and reporting requirements to determine grant compliance.

Description of Likely Respondents: Grant Applicants—Non-Profit Agencies, State and Local Governments, and Indian Tribal Governments.

Estimated Number of Respondents per Year: 650.

Estimated Frequency of Responses per Year: 1 per year.

Estimated Average Burden per Response: 18.98 hours.

Estimated Total Annual Reporting and Recordkeeping Burden: 12,340 hours.

By direction of the Secretary.
Cynthia Harvey-Pryor,
Program Specialist, Office of Privacy and Records Management, Department of Veterans Affairs.

[FR Doc. 2016-29664 Filed 12-9-16; 8:45 am]

BILLING CODE 8320-01-P